FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, with revision, the Structure Reporting and Recordkeeping Requirements for Domestic and Foreign Banking Organizations (FR Y-6, FR Y-7, FR Y-10, and FR Y-10E; OMB No. 7100-0297).

DATES: The revisions for the option of electronic submission and the due date change are effective December 31, 2024; the standard templates is December 31, 2025; and the automation of the FR Y-7 report is December 31, 2026.

FOR FURTHER INFORMATION CONTACT: Federal Reserve Board Clearance Officer—Nuha Elmaghrabi—Office of the Chief Data Officer, Board of Governors of the Federal Reserve System, nuha.elmaghrabi@frb.gov, (202) 452-3884.

Office of Management and Budget (OMB) Desk Officer for the Federal Reserve Board, Office of Information and Regulatory Affairs, Office of Management and Budget, New Executive Office Building, Room 10235, 725 17th Street NW, Washington, DC 20503, or by fax to (202) 395-6974.

SUPPLEMENTARY INFORMATION: On June 15, 1984, OMB delegated to the Board authority under the Paperwork Reduction Act (PRA) to approve and assign OMB control numbers to collections of information conducted or sponsored by the Board. Board-approved collections of information are incorporated into the official OMB inventory of currently approved collections of information. The OMB inventory, as well as copies of the PRA Submission, supporting statements (which contain more detailed information about the information collections and burden estimates than this notice), and approved collection of information instrument(s) are available at https://www.reginfo.gov/public/do/PRAMain. These documents are also available on the Federal Reserve Board's public website at https://www.federalreserve.gov/apps/reportingforms/home/review or may be requested from the agency clearance officer, whose name appears above. On the page displayed at the link above, you can find the supporting information by referencing the collection identifier, FR Y-6, FR Y-7, FR Y-10, and FR Y-10E.

Final Approval Under OMB Delegated Authority of the Extension for Three Years, With Revision, of the Following Information Collection

Collection title: Structure Reporting and Recordkeeping Requirements for Domestic and Foreign Banking Organizations.

Collection identifier: FR Y-6, FR Y-7, FR Y-10, and FR Y-10E.

OMB control number: 7100-0297.

General description of collection: This information collection comprises the following four reports:

Annual Report of Holding Companies (FR Y-6), which collects financial and organizational information from holding companies (HCs) and foreign banking organizations (FBOs) that are not “qualifying” FBOs under section 211.23 of the Board's Regulation K—International Banking Operations (12 CFR part 211),

Annual Report of Foreign Banking Organizations (FR Y-7), which collects financial and organizational information from qualifying FBOs,

Report of Changes in Organizational Structure (FR Y-10), which is an event-generated report that captures changes in organizational structure or regulated investments and activities of various Board-supervised entities, and

Supplement to the Report of Changes in Organizational Structure (FR Y-10E), which is a formless supplement to the FR Y-10 that the Board may use to collect additional structural information on an emergency basis.

Frequency: Annual, event-generated.

Respondents: The FR Y-6 panel comprises top-tier bank holding companies (BHCs), savings and loan holding companies (SLHCs), employee stock ownership plans (ESOPs) and employee share ownership trusts (ESOTs) or trusts that are BHCs or SLHCs, securities holding companies, intermediate holding companies (IHCs), and any FBO that does not meet the requirements of and is not treated as a qualifying FBO under Regulation K.

The FR Y-7 panel comprises all qualifying FBOs that engage in banking in the United States, either directly or indirectly.

The FR Y-10 and FR Y-10E panels comprise top-tier BHCs (including ESOPs or ESOTs that are BHCs and financial holding companies); top-tier SLHCs, including ESOPs, ESOTs, or trusts that are SLHCs pursuant to Regulation LL; FBOs; state member banks that are not controlled by an HC; Edge and agreement corporations that are not controlled by a member bank, a domestic HC, or an FBO; and nationally chartered banks that are not controlled by a BHC or an FBO (with regard to their foreign investments only); and securities holding companies.

Total estimated number of respondents:

FR Y-6—3,760.

FR Y-7—205.

FR Y-10 and FR Y-10E—3,790.

Estimated average hours per response:

Reporting

FR Y-6—2.5.

FR Y-7 Initial—10.10.

FR Y-7 Ongoing—4.63.

FR Y-10—2.5.

FR Y-10E—0.5.

Recordkeeping

FR Y-6—0.5.

FR Y-10—0.5.

Total estimated change in burden: 1,284.

Total estimated annual burden hours:

Reporting

FR Y-6—9,400.

FR Y-7 Initial—2,071.

FR Y-7 Ongoing—949.

FR Y-10—33,153.

FR Y-10E—1,895.

Recordkeeping

FR Y-6—1,880.

FR Y-10—6,631.

Current actions: On March 29, 2024, the Board published a notice in the Federal Register (89 FR 22145) requesting public comment for 60 days on the extension, with revision, of the FR Y-6, FR Y-7, FR Y-10, and FR Y-10E reports. The Board proposed to revise the FR Y-7 report by adding an electronic submission option and adding standard templates for reporting (1) financial statements, (2) organizational charts, (3) information about shares and shareholders, (4) a firm's eligibility as a qualified FBO, and (5) a firm's compliance with prudential standards. The proposal would also make minor clarifications and conforming edits to the FR Y-7 forms and instructions. The proposal included no changes to the FR Y-6, FR Y-10, or FR Y-10E. The comment period for this notice expired on May 28, 2024. The Board received one comment letter from an individual.

Detailed Discussion of Public Comments

The commenter remarked that the FR Y-6 allows a bank holding company (BHC) to request confidential treatment regarding insider ownership information and asked that this ability be removed. A reporter may request confidential treatment for any information submitted on the FR Y-6 that the reporter believes is exempt from disclosure under the Freedom of Information Act (FOIA). The Board may grant a request for confidential treatment if the institution clearly has provided a compelling justification for the request. It is the Board's practice to favor disclosure of principal securities holders' information, but have granted past requests for confidential treatment, consistent with FOIA exemptions, when there was evidence of a well-defined present threat to the liberty or personal security of individuals. For this reason, the Board is maintaining the current process used to fulfill our obligation to consider requests for confidential treatment.

The commenter also noted that individual Federal Reserve districts differ from each other on the ease of public access to FR Y-6 submissions and asks the Board to create a single, publicly accessible, nationwide FR Y-6 database. The Board will take this into consideration during future technology enhancements for the FR Y-6. Additionally, limited structural data from the information collection are published on the National Information Center's public website at https://www.ffiec.gov/NPW.

Lastly, the Board will delay the effective dates for the standard templates to December 31, 2025, and the automation changes to December 31, 2026. Delaying these effective dates will allow sufficient time for the development of the necessary technology to support the changes in the proposal. Aside from this change, the Board adopted the extension, with revision, of the FR Y-7 report as originally proposed.

Board of Governors of the Federal Reserve System, December 2, 2024.
Benjamin W. McDonough,
Deputy Secretary and Ombuds of the Board.

[FR Doc. 2024-28526 Filed 12-5-24; 8:45 am]

BILLING CODE 6210-01-P